DEPARTMENT OF JUSTICE

Lodging of Consent Decree Pursuant to the Clean Air Act

In accordance with the policy of the Department of Justice, 28 U.S.C. 50.7, notice is hereby given that a proposed consent decree in United States v. Metropolitan Council, Civ. No. 99-CV-1105 (DFW/AVB), was lodged with the United States District Court for the District of Minnesota on August 11, 2000. The action was brought by the United States against the Metropolitan Council, a subdivision of the State of Minnesota, which, among other things, operates a wastewater sewage treatment plant in St. Paul, Minnesota. The United State's complaint alleged that the Defendant violated various provisions of the Clean Air Act, 42 U.S.C. 7401 et seq., (“Act”), the Act's New Source Performance Standards, 40 CFR part 60, and the State of Minnesota State Implementation Plan (“SIP”) limiting emissions of particulate matter from multiple hearth incinerators operated by the Defendant which burned sewage sludge generated from the wastewater treatment plant.

Under the proposed consent decree, Metropolitan Council will undertake a series of compliance measures designed with the goal of eliminating future violations of applicable emission limitations until new control equipment is installed. Defendant, among other things, has designed and installed new dampers and seals on the incinerator's emergency stacks that will prevent leakage of particulate matter; will develop a fan alarm system; will develop and implement an operator training program; will develop and implement an improved operation and maintenance plan; and will limit the feed rate to the incinerators. In addition, Metropolitan Council is required to replace the existing multiple hearth incinerators with new fluidized bed incinerators in accordance with a schedule attached to the proposed decree.

In addition to the above, Metropolitan Council has agreed to expend not less than $1.6 million to perform a Supplemental Environmental Project—the installation of a dry electrostatic precipitator—which will result in an additional forty percent (40%) removal of particulate matter from emissions. Installation of this additional control device is not required by the Act or the Minnesota SIP. Beyond these various compliance measures, Metropolitan Council will also pay a civil penalty of $250,000.

The proposed consent decree may be examined at: (1) the Office of the United States Attorney for the District of Minnesota, United States Courthouse, 300 South Fourth Street, Minneapolis, MN (contact Assistant United States Attorney Friedrich A.P. Siekert (612-664-5600)); (2) the United States Environmental Protection Agency (Region 5), 77 West Jackson Boulevard, Chicago, Illinois 60604-3590 (contact Mary McAuliffe (312-886-6237)); and, (3) a copy of the proposed Consent Decree may be obtained by mail from the Department of Justice Consent Decree Library, P.O. Box 7611, Ben Franklin Station, Washington, DC 20044. When requesting a copy, please refer to United States v. Metropolitan Council, DJ #90-5-2-1-2243, and enclose a check in the amount of $8.25 for the consent decree only (33 pages at 25 cents per page reproduction costs), or $10.75 for the consent decree and all appendices (43 pages), made payable to the Consent Decree Library.

Bruce S. Gelber,
Deputy Chief, Environmental Enforcement Section, Environment and Natural Resources Division.

[FR Doc. 00-22133 Filed 8-29-00; 8:45 am]

BILLING CODE 4410-15-M